DEPARTMENT OF TRANSPORTATION

Federal Aviation Administration

14 CFR Part 39

[Docket No. FAA-2004-19444; Directorate Identifier 2004-CE-33-AD; Amendment 39-13960; AD 2005-03-04]

RIN 2120-AA64

Airworthiness Directives; Pacific Aerospace Corporation, Ltd. Model 750XL Airplanes

AGENCY: Federal Aviation Administration (FAA), DOT.

ACTION: Final rule.

SUMMARY: The FAA adopts a new airworthiness directive (AD) for all Pacific Aerospace Corporation, Ltd. (Pacific Aerospace) Model 750XL airplanes. This AD requires you to replace any type TLP-D or TLED rivets on the aileron pushrod ends and elevator control pushrod ends. This AD results from mandatory continuing airworthiness information (MCAI) issued by the airworthiness authority for New Zealand. We are issuing this AD to replace the above identified rivets on the aileron pushrod ends and elevator control pushrod ends, which, if not replaced, could result in loose mechanical elements in the control systems. This could lead to control anomalies and loss of airplane control.

DATES: This AD becomes effective on March 21, 2005.

As of March 21, 2005, the Director of the Federal Register approved the incorporation by reference of certain publications listed in the regulation.

ADDRESSES: To get the service information identified in this AD, contact Pacific Aerospace Corporation, Ltd., Hamilton Airport, Private Bag HN 3027, Hamilton, New Zealand; telephone: 64 7 843 6144; facsimile: 64 7 843 6134. To review this service information, go to the National Archives and Records Administration (NARA). For information on the availability of this material at NARA, go to: http://www.archives.gov/federal_register/code_of_federal_regulations/ibr_locations.html or call (202) 741-6030.

To view the AD docket, go to the Docket Management Facility; U.S. Department of Transportation, 400 Seventh Street, SW., Nassif Building, Room PL-401, Washington, DC 20590-001 or on the Internet at http://dms.dot.gov. The docket number is FAA-2004-19444.

FOR FURTHER INFORMATION CONTACT: Karl Schletzbaum, Aerospace Engineer, Small Airplane Directorate, 901 Locust, Room 302, Kansas City, MO 64106; telephone: 816-329-4146; facsimile: 816-329-4090.

SUPPLEMENTARY INFORMATION:

Discussion

What events have caused this AD? The Civil Aviation Authority (CAA), which is the airworthiness authority for New Zealand, recently notified FAA that an unsafe condition may exist on all Pacific Aerospace Corporation, Ltd. (Pacific Aerospace) Model 750XL airplanes. The CAA reports occurrences of loose type TLP-D or TLED rivets on the aileron pushrod ends and elevator control pushrod ends on Model 750XL airplanes in service in New Zealand.

What is the potential impact if FAA took no action? Any type TLP-D or TLED rivets on the aileron pushrod ends and elevator control pushrod ends could result in loose mechanical elements in the control systems. This could lead to control anomalies and loss of airplane control.

Has FAA taken any action to this point? We issued a proposal to amend part 39 of the Federal Aviation Regulations (14 CFR part 39) to include an AD that would apply to all Pacific Aerospace Corporation, Ltd. (Pacific Aerospace) Model 750XL airplanes. This proposal was published in the Federal Register as a notice of proposed rulemaking (NPRM) on November 22, 2004 (69 FR 67864). The NPRM proposed to require you to replace any type TLP-D or TLED rivets on the aileron pushrod ends and elevator control pushrod ends.

Comments

Was the public invited to comment? We provided the public the opportunity to participate in developing this AD. We received no comments on the proposal or on the determination of the cost to the public.

Conclusion

What is FAA's final determination on this issue? We have carefully reviewed the available data and determined that air safety and the public interest require adopting the AD as proposed except for minor editorial corrections. We have determined that these minor corrections:

—Are consistent with the intent that was proposed in the NPRM for correcting the unsafe condition; and

—Do not add any additional burden upon the public than was already proposed in the NPRM.

Changes to 14 CFR Part 39—Effect on the AD

How does the revision to 14 CFR part 39 affect this AD? On July 10, 2002, the FAA published a new version of 14 CFR part 39 (67 FR 47997, July 22, 2002), which governs the FAA's AD system. This regulation now includes material that relates to altered products, special flight permits, and alternative methods of compliance. This material previously was included in each individual AD. Since this material is included in 14 CFR part 39, we will not include it in future AD actions.

Costs of Compliance

How many airplanes does this AD impact? We estimate that this AD affects 6 airplanes in the U.S. registry.

What is the cost impact of this AD on owners/operators of the affected airplanes? We estimate the following costs to do the replacement of any type TLP-D or TLED rivets on the aileron pushrod ends and elevator control pushrod ends:

Labor cost | Parts cost | Total cost per airplane | Total cost on U.S. operators
6 workhours × $65 per hour = $390 | $37 for 100 Cherry Max 3213-4-2 or 3243-4-2 (oversize nominal ⅛ inch) rivets | $427 | $427 × 6 = $2,562

The Cherry Max 3213-4-2 or 3243-4-2 rivets are available in a specially sealed 100-count package. The costs above cover this 100-count package although you may need less than 100 rivets.

Regulatory Findings

Will this AD impact various entities? We have determined that this AD will not have federalism implications under Executive Order 13132. This AD will not have a substantial direct effect on the States, on the relationship between the national government and the States, or on the distribution of power and responsibilities among the various levels of government.

Will this AD involve a significant rule or regulatory action? For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary by sending a request to us at the address listed under ADDRESSES. Include “Docket No. FAA-2004-19444; Directorate Identifier 2004-CE-33-AD” in your request.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2005-03-04 Pacific Aerospace Corporation, Ltd.: Amendment 39-13960; Docket No. FAA-2004-19444; Directorate Identifier 2004-CE-33-AD.

When Does This AD Become Effective?

(a) This AD becomes effective on March 21, 2005.

What Other ADs Are Affected by This Action?

(b) None.

What Airplanes Are Affected by This AD?

(c) This AD affects Model 750XL airplanes, all serial numbers that are certificated in any category.

What Is the Unsafe Condition Presented in This AD?

(d) This AD is the result of mandatory continuing airworthiness information (MCAI) issued by the airworthiness authority for New Zealand. The actions specified in this AD are intended to replace the above identified rivets on the aileron pushrod ends and elevator control pushrod ends, which, if not replaced, could result in loose mechanical elements in the control systems. This could lead to control anomalies and loss of airplane control.

What Must I Do To Address This Problem?

(e) To address this problem, you must do the following:

Actions | Compliance | Procedures
Replace any type TLP-D or TLED rivets on the aileron pushrod ends and elevator control pushrod ends with a new Cherry Max 3213-4-2 or 3243-4-2 (oversize nominal ⅛ inch) rivet | With 50 hours time-in-service (TIS) after March 21, 2005 (the effective date of this AD), unless already done | Follow the ACCOMPLISHMENT INSTRUCTIONS in Pacific Aerospace Corporation Mandatory Service Bulletin No. PACSB/XL/007, dated June 22, 2004.
(2) Do not install:
(i) Any type TLP-D or TLED rivets on the aileron pushrod ends and elevator control pushrod ends; or | As of March 21, 2005 (the effective date of this AD) | Not Applicable.
(ii) Any aileron pushrods or elevator control pushrods with type TLP-D or TLED rivets on the ends.

May I Request an Alternative Method of Compliance?

(f) You may request a different method of compliance or a different compliance time for this AD by following the procedures in 14 CFR 39.19. Unless FAA authorizes otherwise, send your request to your principal inspector. The principal inspector may add comments and will send your request to the Manager, Standards Office, Small Airplane Directorate, FAA. For information on any already approved alternative methods of compliance, contact Karl Schletzbaum, Aerospace Engineer, Small Airplane Directorate, 901 Locust, Room 302, Kansas City, MO 64106; telephone: 816-329-4146; facsimile: 816-329-4090.

Is There Other Information That Relates to This Subject?

(g) New Zealand Airworthiness Directive Number DCA/40XL/1, dated June 24, 2004, also addresses the subject of this AD.

Does This AD Incorporate Any Material by Reference?

(h) You must do the actions required by this AD following the instructions in Pacific Aerospace Corporation Mandatory Service Bulletin No. PACSB/XL/007, dated June 22, 2004. The Director of the Federal Register approved the incorporation by reference of this service bulletin in accordance with 5 U.S.C. 552(a) and 1 CFR part 51. To get a copy of this service information, contact Pacific Aerospace Corporation, Ltd., Hamilton Airport, Private Bag HN 3027, Hamilton, New Zealand; telephone: 64 7 843 6144; facsimile: 64 7 843 6134. To review copies of this service information, go to the National Archives and Records Administration (NARA). For information on the availability of this material at NARA, go to: http://www.archives.gov/federal_register/code_of_federal_regulations/ibr_locations.html or call (202) 741-6030. To view the AD docket, go to the Docket Management Facility; U.S. Department of Transportation, 400 Seventh Street, SW., Nassif Building, Room PL-401, Washington, DC 20590-001 or on the Internet at http://dms.dot.gov. The docket number is FAA-2004-19444.

Issued in Kansas City, Missouri, on January 24, 2005.
David R. Showers,
Acting Manager, Small Airplane Directorate, Aircraft Certification Service.

[FR Doc. 05-1723 Filed 2-1-05; 8:45 am]

BILLING CODE 4910-13-P